NATIONAL SCIENCE FOUNDATION

Notice of Permits Issued Under the Antarctic Conservation Act of 1978

AGENCY: National Science Foundation.

ACTION: Notice of permits issued.

SUMMARY: The National Science Foundation (NSF) is required to publish notice of permits issued Under the Antarctic Conservation Act of 1978. This is the required notice.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: On September 14, 2017, the National Science Foundation published a notice in the Federal Register of a permit application received. The permit was issued on October 16, 2017 to:

1. Jay J. Rotella, Permit No. 2018-012

2. Linnea Pearson, Permit No. 2018-013

3. David J. Smith, Permit No. 2018-010

Nadene G. Kennedy,
Polar Coordination Specialist, Office of Polar Programs.

[FR Doc. 2017-24173 Filed 11-9-17; 8:45 am]

BILLING CODE 7555-01-P